DEPARTMENT OF COMMERCE

International Trade Administration

[C-570-118]

Wood Mouldings and Millwork Products From the People's Republic of China: Final Results and Partial Rescission of Countervailing Duty Administrative Review; 2022

AGENCY: Enforcement and Compliance, International Trade Administration, Department of Commerce.

SUMMARY: The U.S. Department of Commerce (Commerce) determines that countervailable subsidies were provided to producers and exporters of wood mouldings and millwork products (millwork products) from the People's Republic of China (China) during the period of review (POR) from January 1, 2022, through December 31, 2022. Commerce is also rescinding the review with respect to one company that had no reviewable entries during the POR.

DATES: Applicable August 28, 2024.

FOR FURTHER INFORMATION CONTACT: Bob Palmer or Brandon James, AD/CVD Operations, Office VIII, Enforcement and Compliance, International Trade Administration, Department of Commerce, 1401 Constitution Avenue NW, Washington, DC 20230; telephone: (202) 482-9068 or (202) 482-7472, respectively.

SUPPLEMENTARY INFORMATION:

Background

On March 5, 2024, Commerce published the Preliminary Results.¹ For a detailed description of the events that occurred subsequent to the Preliminary Results, see the Issues and Decision Memorandum.² On July 1, 2024, in accordance with section 751(a)(3)(A) of the Tariff Act of 1930, as amended (the Act), Commerce extended the deadline for issuing the final results until July 26, 2024.³ On July 22, 2024, Commerce tolled certain deadlines in this administrative proceeding by seven days.⁴

¹ See Wood Mouldings and Millwork Products from the Peoples Republic of China: Preliminary Results and Partial Rescission of Countervailing Duty Administrative Review; 2022, 89 FR 15816 (March 5, 2024) (Preliminary Results), and accompanying Preliminary Decision Memorandum (PDM).

² See Memorandum, “Issues and Decision Memorandum for the Final Results of the Countervailing Duty Administrative Review Wood Mouldings and Millwork Products from the People's Republic of China; 2022,” dated concurrently with, and hereby adopted by, this notice (Issues and Decision Memorandum).

³ See Memorandum, “Extension of Deadline for the Final Results of Countervailing Duty Administrative Review; 2022,” dated July 1, 2024.

⁴ See Memorandum, “Tolling of Deadlines for Antidumping and Countervailing Duty Proceedings,” dated July 22, 2024.

Scope of the Order ⁵

⁵ See Wood Mouldings and Millwork Products from the People's Republic of China: Countervailing Duty Order, 86 FR 9484 (February 16, 2021) (Order).

The merchandise subject to the Order is wood mouldings and millwork products (WMMP) from China, which are primarily classifiable under subheadings 4409.10.0500, 4409.10.1020, 4409.10.1040, 4409.10.1060, 4409.10.1080, 4409.10.4010, 4409.10.4090, 4409.10.4500, 4409.10.5000, 4409.10.9020, 4409.10.9040, 4409.22.0590, 4409.22.1000, 4409.22.4000, 4409.22.5000, 4409.22.5020, 4409.22.5040, 4409.22.5060, 4409.22.5090, 4409.22.9000, 4409.22.9020, 4409.22.9030, 4409.22.9045, 4409.22.9060, 4409.22.9090, 4409.29.0665, 4409.29.1100, 4409.29.4100, 4409.29.5100, 4409.29.9100, 4412.99.5115, 4412.99.9500, 4418.91.9095, and 4421.91.9780 of the of the Harmonized Tariff Schedule of the United States (HTSUS). WMMP may also enter under HTSUS numbers 4409.10.6000, 4409.10.6500, 4409.22.6000, 4409.22.6500, 4409.29.6100, 4409.29.6600, 4412.41.0000, 4412.42.0000, 4412.49.0000, 4412.91.5115, 4412.92.5215, 4412.99.9700, 4418.20.4000, 4418.20.8030, 4418.20.8060, 4418.91.9195, 4418.99.9095, 4418.99.9195, 4421.91.9880, 4421.99.9780, and 4421.99.9880. While the HTSUS subheading and ASTM specification are provided for convenience and for customs purposes, the written description of the subject merchandise is dispositive. A full description of the scope of the Order is contained in the Issues and Decision Memorandum.

Rescission of Administrative Review, In Part

In the Preliminary Results, Commerce stated that we intended to further examine the rescission of this administrative review with respect to three companies, Anji Huaxin Bamboo & Wood Products Co., Ltd. (Anji Huaxin), Composite Technology International, Limited (CTIL), and Homebuild Industries Co., Ltd. (Homebuild). Anji Huaxin and CTIL submitted comments claiming that they had entries of subject merchandise during the POR in response to our stated intent to rescind the administrate review with respect to these two companies in the absence of evidence of suspended entries during the POR.⁶ Homebuild submitted a certification of no shipments during the POR and, after seeking confirmation with U.S. Customs and Border Protection (CBP), we placed CBP's response on the record.⁷ For the final results, we find that Anji Huaxin and Homebuild had reviewable entries of subject merchandise during the POR and, accordingly, are not rescinding this review with respect to these two companies. However, we find that CTIL had no reviewable entries of subject merchandise during the POR. As a result, we are rescinding this review, pursuant to 19 CFR 351.213(d)(3), with respect to this company.

⁶ See Preliminary Results PDM at 4-6; see also Memorandum, “Notice of Intent to Rescind Review, In Part,” dated September 14, 2023.

⁷ See Memorandum, “Entry Documents Requested,” dated February 14, 2024.

For further information regarding this determination, see “Final Rescission of Administrative Review, In Part” section in the Issues and Decision Memorandum.

Analysis of Comments Received

All issues raised by interested parties in briefs are addressed in the Issues and Decision Memorandum. A list of the issues addressed in the Issues and Decision Memorandum is provided in Appendix I of this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made certain revisions to the countervailable subsidy rate calculations for Fujian Jinquan Trade Co., Ltd. (Jinquan) and Fujian Yinfeng Imp & Exp Trading Co., Ltd. (Yinfeng).⁸ As a result of the changes to Jinquan and Yinfeng's program rates, the final rate for the 20 non-selected companies under review also changed.⁹ These changes are explained in the Issues and Decision Memorandum.

⁸ See Memoranda, “Final Results Calculations for Fujian Jinquan Trade Co., Ltd.,” and “Final Results Calculations for Fujian Yinfeng Imp & Exp Trading Co., Ltd.,” dated concurrently with this notice.

⁹ The 20 non-selected companies under review are listed in Appendix II of this notice.

Methodology

Commerce conducted this review in accordance with section 751(a)(1)(A) of the Act. For each of the subsidy programs found countervailable, we find that there is a subsidy, i.e., a government-provided financial contribution that gives rise to a benefit to the recipient, and that the subsidy is specific.¹⁰ The Issues and Decision Memorandum contains a full description of the methodology underlying Commerce's conclusions, including any determination that relied upon the use of adverse facts available pursuant to sections 776(a) and (b) of the Act.

¹⁰ See sections 771(5)(B) and (D) of the Act regarding financial contribution; section 771(5)(E) of the Act regarding benefit; and section 771(5A) of the Act regarding specificity.

Companies Not Selected for Individual Review

The statute and Commerce's regulations do not address the establishment of a rate to be applied to companies not selected for individual examination when Commerce limits its examination in an administrative review pursuant to section 777A(c)(2) of the Act. Generally, Commerce looks to section 705(c)(5) of the Act, which provides instructions for determining the all-others rate in an investigation, for guidance when calculating the rate for companies which were not selected for individual examination in an administrative review. Under section 705(c)(5)(A) of the Act, the all-others rate is normally an amount equal to the weighted average of the countervailable subsidy rates established for exporters and producers individually investigated, excluding any zero or de minimis countervailable subsidy rates, and any rates determined entirely on the basis of facts available.

As stated above, there are 20 companies for which a review was requested and not rescinded, and which were not selected as mandatory respondents or found to be cross-owned with a mandatory respondent. For these non-selected companies, because the rates calculated for mandatory respondents Jinquan and Yinfeng were above de minimis and not based entirely on facts available, we applied a final subsidy rate based on a weighted average of the rates calculated for the two mandatory respondents using the publicly ranged sales data they submitted on the record. This methodology is consistent with our practice for establishing an all-others subsidy rate pursuant to section 705(c)(5)(A) of the Act. For a list of the non-selected companies, see Appendix II to this notice.

Final Results of Review

We find the countervailable subsidy rates for the mandatory and non-selected respondents under review for the period of January 1, 2022, through December 31, 2022, to be as follows:

Producer/exporter | Subsidy rate (percent ad valorem)
Fujian Jinquan Trade Co., Ltd.¹¹ | 21.21
Fujian Yinfeng Imp & Exp Trading Co., Ltd.¹² | 3.11
Non-Selected Companies Under Review ¹³ | 14.38

Disclosure

¹¹ Jinquan is cross-owned with Fujian Province Youxi County Baiyuan Wood Machining Co., Ltd.

¹² The following companies are cross-owned with Yinfeng: Fujian Province Youxi City Mangrove Wood Machining Co., Ltd.; and Fujian Province Youxi City Mangrove Wood Machining Co., Ltd. Youxi Xicheng Branch. Fujian Province.

¹³ See Appendix II.

We intend to disclose the calculations performed in connection with the final results of review to parties in this proceeding within five days of the date of publication of this notice in the Federal Register, in accordance with 19 CFR 351.224(b).

Assessment Rates

Pursuant to section 751(a)(2)(C) of the Act and 19 CFR 351.212(b), Commerce has determined, and CBP shall assess, countervailing duties on all appropriate entries of subject merchandise in accordance with the final results of this review, for the above-listed companies at the applicable ad valorem assessment rates listed for the POR (i.e., January 1, 2022, to December 31, 2022). For CTIL, for which this review is rescinded, Commerce will instruct CBP to assess countervailing duties on all appropriate entries at a rate equal to the cash deposit of estimated countervailing duties required at the time of entry, or withdrawal from warehouse, for consumption, during the period January 1, 2022, through December 31, 2022, in accordance with 19 CFR 351.212(c)(l)(i). Commerce intends to issue assessment instructions to CBP for these companies no earlier than 35 days after the publication of the preliminary results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for the POR for each of the respective companies listed above on shipments of subject merchandise entered, or withdrawn from warehouse, for consumption on or after the date of publication of the final results of this administrative review. For all non-reviewed firms subject to the Order, we will instruct CBP to continue to collect cash deposits of estimated countervailing duties at the most recent company-specific or all-others rate applicable to the company, as appropriate. These cash deposit requirements, effective upon publication of the final results of review, shall remain in effect until further notice.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act, and 19 CFR 351.221(b)(5).

Dated: August 15, 2024.
Abdelali Elouaradia,
Deputy Assistant Secretary for Enforcement and Compliance.

Appendix I—List of Topics Discussed in the Issues and Decision Memorandum

I. Summary

II. Background

III. Final Rescission of Review, in Part

IV. Scope of the Order

V. Use of Facts Otherwise Available and Application of Adverse Inferences

VI. Subsidies Valuation Information

VII. Analysis of Programs

VIII. Discussion of the Issues

Comment 1: Whether Commerce Should Change Its Preliminary Findings Regarding the Export Buyer's Credit Program (EBCP)

Comment 2: Whether the Electricity for Less Than Adequate Remuneration (LTAR) Program Is Specific

Comment 3: Whether Certain Input Suppliers Are Government Authorities

A. Whether Information Is Missing From the Record

B. Whether Two Suppliers Provided Sufficient Information

Comment 4: Whether Commerce Properly Excluded Respondents' Benchmark Data

A. Whether Commerce Should Use All of Respondents' Benchmark Data

B. Whether Commerce Should Revise the Cut Timber Benchmark

Comment 5: Whether Commerce Should Revise the Paint Benchmark

Comment 6: Whether Commerce Should Revise the Ocean Freight Benchmark

A. Whether Commerce Should Include Drewry Data

B. Whether Commerce Should Adjust Its Averaging Methodology

C. Whether To Include Certain Surcharges

Comment 7: Whether Commerce Should Rely on Respondents' Reported Inland Freight Data

Comment 8: Whether Commerce Should Exclude Sales Not Related to Production Activities

Comment 9: Whether Commerce Should Rely on Malaysian Land Benchmarks

IX. Recommendation

Appendix II—Non-Selected Companies Under Review

1. Anji Huaxin Bamboo & Wood Products Co., Ltd.

2. Fotiou Frames Limited

3. Fujian Hongjia Craft Products Co., Ltd.

4. Fujian Wangbin Decorative Material Co., Ltd.

5. Fujian Youxi Best Arts & Crafts Co. Ltd.

6. Homebuild Industries Co., Ltd.

7. Huaan Longda Wood Industry Co., Ltd.

8. Jiangsu Wenfeng Wood Co., Ltd.

9. Longquan Jiefeng Trade Co., Ltd.

10. Nanping Huatai Wood & Bamboo Co., Ltd.

11. Nanping Huatai Wood and Bamboo Co., Ltd.

12. Putian Yihong Wood Industry Co., Ltd.

13. Shandong Miting Household Co., Ltd.

14. Shaxian Hengtong Wood Industry Co., Ltd.

15. Shaxian Shiyiwood, Ltd.

16. Shuyang Kevin International Co., Ltd.

17. Shuyang Zhongding Decoration Materials Co., Ltd.

18. Suqian Sulu Import & Export Trading Co., Ltd.

19. Zhangzhou Wangjiamei Industry & Trade Co., Ltd.

20. Zhangzhou Yihong Industrial Co., Ltd.

[FR Doc. 2024-19318 Filed 8-27-24; 8:45 am]

BILLING CODE 3510-DS-P